ENVIRONMENTAL PROTECTION AGENCY

[FRL-6712-6]

Adequacy Status of the Submitted Attainment Demonstration for the Ozone National Ambient Air Quality Standards for Transportation Conformity Purposes for the New Jersey Severe Ozone Nonattainment Areas

AGENCY: Environmental Protection Agency (EPA).

ACTION: Notice of adequacy.

SUMMARY: In this notice, EPA is notifying the public that we have found that the motor vehicle emissions budgets for volatile organic compounds and nitrogen oxides in the submitted ozone attainment demonstration for the New Jersey severe nonattainment areas to be adequate for conformity purposes. On March 2, 1999, the D.C. Circuit Court ruled that submitted state implementation plans (SIPs) cannot be used for conformity determinations until EPA has affirmatively found them adequate. As a result of our finding, the New Jersey portions of the New York-New Jersey-Connecticut and Philadelphia-Wilmington-Trenton severe ozone nonattainment areas can use the motor vehicle emissions budgets of volatile organic compounds and nitrogen oxides for 2007 and 2005, respectively, from the submitted ozone attainment demonstration for future conformity determinations.

DATES: This finding is effective June 26, 2000.

FOR FURTHER INFORMATION CONTACT: Matthew B. Cairns, Mobile Source Team, Air Programs Branch, Environmental Protection Agency, 290 Broadway, 25th Floor, New York, New York 10007-1866, (212) 637-3895, e-mail address: cairns.matthew@epa.gov.

The finding and the response to comments will be available at EPA's conformity website: http://www.epa.gov/oms/traq, (once there, click on the “Conformity” button, then look for “Adequacy Review of SIP Submissions for Conformity”).

SUPPLEMENTARY INFORMATION:

Background

Today's notice is simply an announcement of a finding that we have already made. EPA Region 2 sent a letter to the New Jersey Department of Environmental Protection on May 31, 2000, stating that the motor vehicle emissions budgets in the submitted ozone attainment demonstration (dated April 26, 2000) for the New Jersey portions of the New York-New Jersey-Connecticut and Philadelphia-Wilmington-Trenton severe nonattainment areas are adequate for conformity purposes. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP budgets in guidance (May 14, 1999 memo titled “Conformity Guidance on Implementation of March 2, 1999 Conformity Court Decision”). We followed this guidance in making our adequacy determination.

Authority: 42 U.S.C. 7401 et seq.

Dated: May 31, 2000.
Jeanne M. Fox,
Regional Administrator, Region 2.

[FR Doc. 00-14637 Filed 6-8-00; 8:45 am]

BILLING CODE 6560-50-P